FEDERAL RESERVE SYSTEM

Formations of, Acquisitions by, and Mergers of Bank Holding Companies; Correction

This notice corrects a notice (FR Doc.01-11464) published on pages 23255 and 23256 of the issue for Tuesday, May 8, 2001.

Under the Federal Reserve Bank of Richmond heading, the entry for BB&T Corporation, Winstom-Salem, North Carolina, is revised to read as follows:

A. Federal Reserve Bank of Richmond (A. Linwood Gill, III, Vice President) 701 East Byrd Street, Richmond, Virginia 23261-4528:

1. BB&T Corporation, Winston-Salem, North Carolina; to merge with F&M National Corporation, Winchester, Virginia, and thereby indirectly acquire F&M Bank-Maryland, Bethesda, Maryland; F&M Bank-Central Virginia, Charlottesville, Virginia; F&M Bank-Highlands, Covington, Virginia; F&M Bank-Southern Virginia, Emporia, Virginia; F&M Bank-Northern Virginia, Fairfax, Virginia; F&M Bank-Atlantic, Gloucester, Virginia; F&M Bank-Massanutten, Harrisonburg, Virginia; F&M Bank-Richmond, Richmond, Virginia; F&M Bank-Peoples, Warrenton, Virginia; F&M Bank-Winchester, Winchester, Virginia; and F&M Bank-West Virginia, Ranson, West Virginia. Applicant also has applied to acquire up to 9 percent of F&M Corporation.

In connection with this application, Applicant also has applied to acquire F&M Trust Company, Winchester, Virginia, and thereby engage in trust company activities, pursuant to § 225.28(b)(5) of Regulation Y, and Johnson Mortgage Company, LLC, Newport News, Virginia, and thereby engage in mortgage banking activities, pursuant to § 225.28(b)(1) of Regulation Y.

Comments on this application must be received by June 1, 2001.

Board of Governors of the Federal Reserve System, May 16, 2001.
Robert deV. Frierson
Associate Secretary of the Board.

[FR Doc. 01-12805 Filed 5-21-01; 8:45 am]

BILLING CODE 6210-01-S